DEPARTMENT OF DEFENSE

Department of the Army

Environmental Impact Statement for Army Training Land Retention at Pōhakuloa Training Area in Hawai'i

AGENCY: Department of the Army; Defense (DOD).

ACTION: Notice of Intent.

SUMMARY: In accordance with the National Environmental Policy Act (NEPA) and the Hawai'i Environmental Policy Act (HEPA), the Department of the Army (Army) announces its intent to prepare an Environmental Impact Statement (EIS) to address the Army's proposed retention of up to approximately 23,000 acres of land currently leased to the Army by the state of Hawai'i (“State-owned land”) at Pōhakuloa Training Area (PTA) on the island of Hawai'i. As the proposed retention involves State-owned land, the EIS will be a joint NEPA-HEPA document; therefore, the public scoping processes will run concurrently and will jointly meet NEPA and HEPA requirements.

DATES: The Army invites public comments on the scope of the EIS during a 40-day public scoping period, beginning on the publication date of this Notice of Intent in the Federal Register.

ADDRESSES: Written comments should be submitted via the EIS website at: https://home.army.mil/hawaii/index.php/PTAEIS. Alternatively, comments can be emailed to usarmy.hawaii.nepa@mail.mil, or mailed to: ATLR PTA EIS Comments, P.O. Box 3444, Honolulu, HI 96801-3444.

FOR FURTHER INFORMATION CONTACT: Please contact Mr. Michael Donnelly, PTA Public Affairs Officer, at (808) 969-2411 or by email to michael.o.donnelly.civ@mail.mil.

SUPPLEMENTARY INFORMATION: PTA has been used for training as early as 1938, but was not used routinely until 1943. PTA was formally established in 1956 through a maneuver agreement granted by the Territory of Hawai'i. In 1964, the State granted a 65-year lease of approximately 23,000 acres of land to the Army for military purposes. The lease expires on August 16, 2029. The 23,000 acres of State-owned land contain utilities, critical infrastructure, maneuver land, and key training facilities, some of which are not available elsewhere in Hawai'i. The land also provides access to approximately 110,000 acres of adjacent U.S. Government-owned land at PTA.

PTA encompasses approximately 132,000 acres of land used for training military personnel for combat. It is the only U.S. training area in the Pacific region where training units can complete all mission essential tasks, and the only U.S. training facility in the Pacific region that can accommodate larger than company-sized units for live-fire and maneuver exercises. The U.S. Army Hawaii (USARHAW) and other U.S. military units that train at PTA include the 25th Infantry Division, U.S. Marine Corps, U.S. Navy, U.S. Air Force, Hawaii National Guard, and U.S. Army Reserve.

The Army's retention of State-owned land within PTA is needed to enable USARHAW to continue to conduct military training to meet its current and future training requirements.

Retention of State-owned land is needed to allow access between major parcels of U.S. Government-owned land at PTA, retain substantial Army infrastructure investments, allow for future facility and infrastructure modernization, preserve limited maneuver area, provide austere environment training, and maximize use of the impact area in support of USARHAW-coordinated training. To understand the environmental consequences of the decision to be made, the EIS will evaluate the potential direct, indirect, and cumulative impacts of a range of reasonable alternatives that meet the purpose of, and need for, the Proposed Action. Alternatives to be considered, including the no action alternative, are (1) Full Retention, (2) Modified Retention, and (3) Minimum Retention and Access. Other reasonable alternatives raised during the scoping process and capable of meeting the project purpose and need will be considered for evaluation in the EIS.

Native Hawaiian organizations; Federal, state, and local agencies; and the public are invited to be involved in the scoping process for the preparation of this EIS by participating in a scoping meeting and/or submitting written comments. The scoping process will help identify potential environmental impacts and key issues of concern to be analyzed in the EIS. Written comments must be sent within 40 days of publication of the Notice of Intent in the Federal Register. In response to the coronavirus (COVID-19) pandemic in the United States and the Center for Disease Control's recommendations for social distancing and avoiding large public gatherings, the Army will not hold public scoping meetings for this action. In lieu of the public scoping meetings, the Army will use other alternative means to enable public participation such as virtual meetings using online meeting/collaboration tools, teleconference, social media, or email, as appropriate. An EIS Scoping Virtual Open House and two in-person scoping comment stations will be held on Wednesday, September 23, 2020 from 4-9 p.m. During the EIS Scoping Virtual Open House, video presentations can be viewed online at https://home.army.mil/hawaii/index.php/PTAEIS and oral and written comments will be accepted. Oral comments will be accepted via phone by calling (808) 300-0220. The two in-person scoping comment stations will also be open to the public to accept oral comments via phone and written comments: One in-person scoping comment station will be in Hilo, and the other will be in Waimea, both on the island of Hawai'i; individuals making comments will maintain recommended social distance. Notification of the EIS Scoping Virtual Open House and in-person scoping comment stations date and time will also be published and announced in local news media outlets and on the EIS website. For those who do not have ready access to a computer or the internet, the scoping materials posted to the EIS website will be made available upon request by mail. Inquiries and requests for scoping materials may be made to Michael Donnelly, PTA Public Affairs Officer at (808) 969-2411 or by email at michael.o.donnelly.civ@mail.mil.

Brenda S. Bowen,
Army Federal Register Liaison Officer.

[FR Doc. 2020-19620 Filed 9-3-20; 8:45 am]

BILLING CODE 5061-AP-P